DEPARTMENT OF COMMERCE

National Oceanic and Atmospheric Administration

[I.D. 072800B]

Marine Mammals; File No. P368D

AGENCY: National Marine Fisheries Service (NMFS), National Oceanic and Atmospheric Administration (NOAA), Commerce.

ACTION: Receipt of application for amendment.

SUMMARY: Notice is hereby given that Dr. James T. Harvey, Moss Landing Marine Laboratories, P.O. Box 450, Moss Landing, CA 95039-0450, has requested an amendment to scientific research Permit No. 938.

DATES: Written or telefaxed comments must be received on or before September 6, 2000.

ADDRESSES: The amendment request and related documents are available for review upon written request or by appointment in the following office(s):

Permits and Documentation Division, Office of Protected Resources, NMFS, 1315 East-West Highway, Room 13705, Silver Spring, MD 20910 (301/713-2289); and

Regional Administrator, Alaska Region, NMFS, P.O. Box 21668, Juneau, AK 99802 (907/586-7221).

Written comments or requests for a public hearing on this request should be submitted to the Chief, Permits and Documentation Division, F/PR1, Office of Protected Resources, NMFS, 1315 East-West Highway, Room 13130, Silver Spring, MD 20910. Those individuals requesting a hearing should set forth the specific reasons why a hearing on this particular amendment request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Simona Roberts or Ruth Johnson, 301/713-2289.

SUPPLEMENTARY INFORMATION: The subject amendment to Permit No. 938, issued on February 2, 1995 (60 FR 7753) is requested under the authority of the Marine Mammal Protection Act of 1972, as amended (16 U.S.C. 1361 et seq.) and the Regulations Governing the Taking and Importing of Marine Mammals (50 CFR part 216).

Permit No. 938 authorizes the permit holder to take various species of marine mammals of the suborders Mysticeti, Odontoceti, Pinnipedia, and southern sea otter annually during: aerial and vessel surveys, behavioral observations, photographic identification, and VHF and TDR tagging. On August 16, 1999 the permit was amended to include authorization to place implantable and surface VHF tags and TDRs on up to 20 killer whales (Orcinus orca) off the California coast. The permit holder now requests authorization to place implantable VHF and TDR tags on up to 8 killer whales in southeast Alaska.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: August 1, 2000.
Ann D. Terbush,
Division Chief, Permits and Documentation Division, Office of Protected Resources, National Marine Fisheries Service,

[FR Doc. 00-19925 Filed 8-4-00; 8:45 am]

BILLING CODE 3510-22-F